NATIONAL AERONAUTICS AND SPACE ADMINISTRATION

[Notice (15-086)]

Notice of Intent To Grant Partially Exclusive License

AGENCY: National Aeronautics and Space Administration.

ACTION: Notice of intent to grant partially exclusive license.

SUMMARY: This notice is issued in accordance with 35 U.S.C. 209(e) and 37 CFR 404.7(a)(1)(i). NASA hereby gives notice of its intent to grant a partially-exclusive license in the United States to practice the invention described and claimed in U.S. Patent No. 7,623,972 for an invention entitled “Detection of Presence of Chemical Precursors”; U.S. Patent No. 7,801,687 for an invention entitled “Chemical Sensors Using Coated or Doped Carbon Nanotube Networks”; U.S. Patent No. 7,968,054 for an invention entitled “Nanostructure Sensing and Transmission Of Gas Data”; and U.S. Patent No. 8,000,903 for an invention entitled “Coated or Doped Carbon Nanotube Network Sensors as Affected by Environmental Parameters”; and ARC-16902-1 for an invention entitled “Nanosensors for medical diagnosis”; and ARC-16292-1 for an invention entitled “Nanosensor/Cell Phone Hybrid for Detecting Chemicals and Concentrations,” to The Medical Innovation Group, LLC, having its principal place of business at 416 Mount Airy Road, Basking Ridge, NJ 07920. The patent rights in this invention have been assigned to the United States of America as represented by the Administrator of the National Aeronautics and Space Administration. The prospective partially-exclusive license will comply with the terms and conditions of 35 U.S.C. 209 and 37 CFR 404.7.

DATES: The prospective partially exclusive license may be granted unless, within fifteen (15) days from the date of this published notice, NASA receives written objections including evidence and argument that establish that the grant of the license would not be consistent with the requirements of 35 U.S.C. 209 and 37 CFR 404.7. Competing applications completed and received by NASA within fifteen (15) days of the date of this published notice will also be treated as objections to the grant of the contemplated partially exclusive license. Objections submitted in response to this notice will not be made available to the public for inspection and, to the extent permitted by law, will not be released under the Freedom of Information Act, 5 U.S.C. 552.

ADDRESSES: Objections relating to the prospective license may be submitted to Patent Counsel, Office of Chief Counsel, NASA Ames Research Center, Mail Stop 202A-4, Moffett Field, CA 94035-1000. (650) 604-5104; Fax (650) 604-2767.

FOR FURTHER INFORMATION CONTACT: Robert M. Padilla, Chief Patent Counsel, Office of Chief Counsel, NASA Ames Research Center, Mail Stop 202A-4, Moffett Field, CA 94035-1000. (650) 604-5104; Fax (650) 604-2767. Information about other NASA inventions available for licensing can be found online at http://technology.nasa.gov/.

Mark P. Dvorscak,
Agency Counsel for Intellectual Property.

[FR Doc. 2015-24955 Filed 10-1-15; 8:45 am]

BILLING CODE 7510-13-P